DEPARTMENT OF COMMERCE

Submission for OMB Review; Comment Request

The Department of Commerce will submit to the Office of Management and Budget (OMB) for clearance the following proposal for collection of information under the provisions of the Paperwork Reduction Act (44 U.S.C. chapter 35).

Agency: Economic Development Administration (EDA).

Title: Compliance with Government Performance and Results Act.

Form Number(s): ED-915, ED-916, ED-917, and ED-918.

OMB Approval Number: 0610-0098.

Type of Review: Regular submission.

Burden Hours: 10,703.

Number of Respondents: 1,529.

Average Hours per Response: 7 hours.

Needs and Uses: EDA must comply with the Government Performance and Results Act of 1993 which requires Federal agencies to develop performance measures, and report to Congress and stakeholders the results of the agency's performance. EDA needs to collect specific data from grant recipients to report on its performance in meeting its stated goals and objectives.

Affected Public: State or local government; Economic Development Districts; Federally-recognized Tribal governments; institutions of higher education; and not-for-profit institutions.

Frequency: Annually.

Respondent's Obligation: Mandatory.

OMB Desk Officer: Nicholas Fraser, (202) 395-5887.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Nicholas Fraser, OMB Desk Officer, FAX number (202) 395-7285, or Nicholas_F._Fraser@omb.eop.gov.

Dated: August 30, 2011.
Gwellnar Banks,
Management Analyst, Office of the Chief Information Officer.

[FR Doc. 2011-22544 Filed 9-1-11; 8:45 am]

BILLING CODE 3510-34-P